DEPARTMENT OF JUSTICE

[OMB Number 1121-0235]

Agency Information Collection Activities Proposed eCollection eComments Requested; Extension, Without Change, of a Currently Approved Collection: Bulletproof Vest Partnership (BVP)

AGENCY: Office of Justice Programs, Department of Justice.

ACTION: 30-Day notice.

SUMMARY: The Department of Justice (DOJ), Office of Justice Programs, Bureau of Justice Assistance, is submitting the following information collection request to the Office of Management and Budget (OMB) for review and approval in accordance with the Paperwork Reduction Act of 1995.

DATES: The Department of Justice encourages public comment and will accept input until September 4, 2019.

FOR FURTHER INFORMATION CONTACT: If you have comments especially on the estimated public burden or associated response time, suggestions, or need a copy of the proposed information collection instrument with instructions or additional information, please contact Joseph Husted, Program Advisor, Bureau of Justice Assistance, Office of Justice Programs, U.S. Department of Justice, 810 7th Street NW, Washington, DC 20531 by email at Joseph.Husted@usdoj.gov or 202-616-6500. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Assistance, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension, without change, of a currently approved collection.

(2) The Title of the Form/Collection: Bulletproof Vest Program Application.

(3) The agency form number, if any, and the applicable component of the Department sponsoring the collection: None. The program application can be found at the Bureau of Justice Assistance, United States Department of Justice's website at https://grants.ojp.usdoj.gov/bvp/login/externalAccess.jsp.

(4) Affected public who will be asked or required to respond, as well as a brief abstract: Jurisdictions and law enforcement agencies with armor vest needs.

(5) An estimate of the total number of respondents and the amount of time estimated for an average respondent to respond/reply: It is estimated that no more than 4,500 respondents will apply each year. Each application takes approximately 1 hour to complete.

(6) An estimate of the total public burden (in hours) associated with the collection: Approximately 4,500 hours.

If additional information is required, contact: Melody Braswell, Department Clearance Officer, United States Department of Justice, Justice Management Division, Policy and Planning Staff, Two Constitution Square, 145 N Street NE, 3E.405A, Washington, DC 20530.

Dated: July 31, 2019.
Melody Braswell,
Department Clearance Officer for PRA, U.S. Department of Justice.

[FR Doc. 2019-16627 Filed 8-2-19; 8:45 am]

BILLING CODE 4410-18-P